DEPARTMENT OF THE INTERIOR

National Park Service

[NPS-WASO-D-COS-POL-33364; PPWODIREP0; PPMPSAS1Y.YP0000]

National Park System Advisory Board; Charter Re-Establishment

AGENCY: National Park Service, Interior.

ACTION: Notice of advisory committee re-establishment.

SUMMARY: The Secretary of the Interior intends to re-establish the National Park System Advisory Board (Board), in accordance with Federal Advisory Committee Act. The Secretary has chosen to re-establish the Board so that the Board may continue to provide advice to the Secretary on matters relating to the National Park Service, the National Park System, and programs administered by the National Park Service.

FOR FURTHER INFORMATION CONTACT: Joshua Winchell, Staff Director and Designated Federal Officer for the National Park System Advisory Board, Office of Policy, National Park Service, joshua_winchell@nps.gov, 202-513-7053.

SUPPLEMENTARY INFORMATION: The Board was originally authorized by the Historic Sites, Buildings and Antiquities Act of 1935. When that authority expired in 2010, the Secretary re-established the Board as a discretionary committee. The Board again terminated on January 8, 2023, when its charter expired. The Secretary is re-establishing the Board.

The advice and recommendations provided by the Board fulfill an important need within the Department of the Interior and the National Park Service, and it is necessary to re-establish the Board to ensure its work is not disrupted. The Board's members will be balanced, consistent with its charter, to represent a cross-section of disciplines and expertise relevant to the National Park Service mission. Board members will be selected from regions throughout the country.

Certification: I hereby certify that the re-establishment of the National Park System Advisory Board is necessary and in the public interest in connection with the performance of duties imposed on the Department of the Interior by the National Park Service Organic Act (54 U.S.C. 100101(a) et seq.), and other statutes relating to the administration of the National Park Service.

Authority: 5 U.S.C. 10.

Dated: May 2, 2023.
Deb Haaland,
Secretary of the Interior.

[FR Doc. 2023-09746 Filed 5-8-23; 8:45 am]

BILLING CODE 4312-52-P